DEPARTMENT OF HOUSING AND URBAN DEVELOPMENT

[Docket No. FR-4809-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own site at their own expense. Homeless assistance providers interested in any such property should send a written expression of interest to HHS, addressed to Shirley Kramer, Division of Property Management, Program Support Center, HHS, room 5B-41, 500 Fishers Lane, Rockville, MD 20857; (301) 443-2265. (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ENERGY: Mr. Andy Duran, Department of Energy, Office of Engineering & Construction Management, ME-90, Washington, DC 20585; (202) 586-4548; GSA: Mr. Brian K. Polly, Assistant Commissioner, General Services Administration, Office of Property Disposal, 18th and F Streets, NW, Washington, DC, 20405; (202) 501-0052; NAVY: Mr. Charles C. Cocks, Director, Department of the Navy, Real Estate Policy Division; Naval Facilities Engineering Command, Washington Navy Yard, 1322 Patterson Ave., SE, Suite 1000, Washington, DC 20374-5063; (202) 685-9200; (These are not toll-free numbers).

Dated: September 18, 2003.
John D. Garrity,
Director, Office of Special Needs Assistance Programs.

Title V, Federal Surplus Property Program Federal Register Report for 9/26/2003

Suitable/Available Properties

Buildings (by State)

California

Bell Federal Service Center

5600 Rickenbacker Road

Bell Co: Los Angeles CA 90201-

Landholding Agency: GSA

Property Number: 54200320009

Status: Excess

Comment: Correction/Republished: 7 bldgs., various sq. ft., need repair, portion occupied, restricted access, presence of asbestos/lead paint/PCBs, most recent use—warehouse/office

GSA Number: 9-G-CA-06984

Colorado

Strategic Range Tng Complex

Industrial Park

LaJunta Co: Otero CO 81050-9501

Landholding Agency: GSA

Property Number: 54200330013

Status: Surplus

Comment: main bldg. with 6 storage bldgs.

GSA Number: 7-D-CO-0648

Iowa

Fed Bldg/Courthouse

350 W 6th Street

Dubuque Co: IA 52001-

Landholding Agency: GSA

Property Number: 54200330014

Status: Excess

Comment: 45,729 sq. ft., needs repair, portion occupied, most recent use—office, historic covenants

GSA Number: 7-G-IA-0495-1

Unsuitable Properties

Buildings (by State)

Hawaii

Bldgs. 444 & 446

Pearl Harbor

Aiea Col: Honolulu HI 96701-

Landholding Agency: Navy

Property Number: 77200330058

Status: Unutilized

Reasons: Secured Areas, Extensive deterioration

Idaho

Bldg. PBF601

Idaho Natl Eng & Env Lab

Scoville Co: Butte ID 83415-

Landholding Agency: Energy

Property Number: 41200330005

Status: Excess

Reason: Secured Area

Bldg. PBF606

Idaho Natl Eng & Env Lab

Scoville Co: Butte ID 83415-

Landholding Agency: Energy

Property Number: 41200330006

Status: Excess

Reason: Secured Area

Bldg. PBF 626

Idaho Natl Eng & Env Lab

Scoville Co: Butte ID 83415-

Landholding Agency: Energy

Property Number: 41200330007

Status: Excess

Reason: Secured Area

Bldg. PBF627

Idaho Natl Eng & Env Lab

Scoville Co: Butte ID 83415-

Landholding Agency: Energy

Property Number: 41200330008

Status: Excess

Reason: Secured Area

Bldg. PBF634

Idaho Natl Eng & Env Lab

Scoville Co: Butte ID 83415-

Landholding Agency: Energy

Property Number: 41200330009

Status: Excess

Reason: Secured Area

Bldg. PBF635

Idaho Natl Eng & Env Lab

Scoville Co: Butte ID 83415-

Landholding Agency: Energy

Property Number: 41200330010

Status: Excess

Reason: Secured Area

4 Bldgs.

Idaho Natl Eng & Env Lab

PBF705, 717, 734, 720

Scoville Co: Butte ID 83415-

Landholding Agency: Energy

Property Number: 41200330011

Status: Excess

Reason: Secured Area

Bldg. TAN604

Idaho Natl Eng & Env Lab

Scoville Co: Butte ID 83415-

Landholding Agency: Energy

Property Number: 41200330012

Status: Excess

Reason: Secured Area

Bldg. TAN606

Idaho Natl Eng & Env Lab

Scoville Co: Butte ID 83415-

Landholding Agency: Energy

Property Number: 41200330013

Status: Excess

Reason: Secured Area

Bldg. TAN647

Idaho Natl Eng & Env Lab

Scoville Co: Butte ID 83415-

Landholding Agency: Energy

Property Number: 41200330014

Status: Excess

Reason: Secured Area

Bldg. TAN653

Idaho Natl Eng & Env Lab

Scoville Co: Butte ID 83415-

Landholding Agency: Energy

Property Number: 41200330015

Status: Excess

Reason: Secured Area

Bldg. TAN667

Idaho Natl Eng & Env Lab

Scoville Co: Butte ID 83415-

Landholding Agency: Energy

Property Number: 41200330016

Status: Excess

Reason: Secured Area

Maryland

Bldgs. 1438, 1435, 1436

Naval Air Station

Scotland Co: St. Mary's MD 20687-

Landholding Agency: Navy

Property Number: 77200330059

Status: Unutilized

Reason: Secured Area

Pennsylvania

Bldg. 567

Naval Surface Warfare Center

Philadelphia Co: PA 19112-

Landholding Agency: Navy

Property Number: 77200330060

Status: Excess

Reason: Within 2000 ft. of flammable or explosive material

Virginia

Fuel Pier CAD-B

Naval Weapons Station

Yorktown Co: VA 23691-

Landholding Agency: Navy

Property Number: 77200330061

Status: Unutilized

Reasons: Secured Area, Extensive deterioration

Bldg. C-5

Naval Station

Norfolk Co: VA 23511-3095

Landholding Agency: Navy

Property Number: 77200330062

Status: Excess

Reason: Extensive deterioration

Bldg. W-6

Naval Station

Norfolk Co: VA 23511-

Landholding Agency: Navy

Property Number: 77200330063

Status: Excess

Reason: Extensive deterioration

Bldg. R-48

Naval Station

Norfolk Co: VA 23511-

Landholding Agency: Navy

Property Number: 77200330064

Status: Excess

Reason: Extensive deterioration

Bldg. R-52

Naval Station

Norfolk Co: VA 23511-

Landholding Agency: Navy

Property Number: 77200330065

Status: Excess

Reason: Extensive deterioration

Bldg. LP-69

Naval Station

Norfolk Co: VA 23511-

Landholding Agency: Navy

Property Number: 77200330066

Status: Excess

Reason: Extensive deterioration

Bldg. SP-70

Naval Station

Norfolk Co: VA 23511-

Landholding Agency: Navy

Property Number: 77200330067

Status: Excess

Reason: Extensive deterioration

Bldg. U-107

Naval Station

Norfolk Co: VA 23511-

Landholding Agency: Navy

Property Number: 77200330068

Status: Excess

Reason: Extensive deterioration

Bldg. U-120

Naval Station

Norfolk Co: VA 23511-

Landholding Agency: Navy

Property Number: 77200330069

Status: Excess

Reason: Extensive deterioration

Bldg. U-129

Naval Station

Norfolk Co: VA 23511-

Landholding Agency: Navy

Property Number: 77200330070

Status: Excess

Reason: Extensive deterioration

Bldgs. LP-178, LP-179

Naval Station

Norfolk Co: VA 23511-

Landholding Agency: Navy

Property Number: 77200330071

Status: Excess

Reason: Extensive deterioration

Bldg. 99

Naval Weapons Station

Yorktown Co: VA 23691-

Landholding Agency: Navy

Property Number: 77200330072

Status: Excess

Reason: Secured Area

Bldg. 350

Naval Weapons Station

Yorktown Co: VA 23691-

Landholding Agency: Navy

Property Number: 77200330073

Status: Excess

Reason: Secured Area

Bldgs. 383, 384

Naval Weapons Station

Yorktown Co: VA 23691-

Landholding Agency: Navy

Property Number: 77200330074

Status: Excess

Reason: Secured Area

Bldg. 386

Naval Weapons Station

Yorktown Co: VA 23691-

Landholding Agency: Navy

Property Number: 77200330075

Status: Excess

Reason: Secured Area

Bldgs. 401, 413

Naval Weapons Station

Yorktown Co: VA 23691-

Landholding Agency: Navy

Property Number: 77200330076

Status: Excess

Reason: Secured Area

Bldg. 425

Naval Weapons Station

Yorktown Co: VA 23691-

Landholding Agency: Navy

Property Number: 77200330077

Status: Excess

Reason: Secured Area

Bldg. 491

Naval Weapons Station

Yorktown Co: VA 23691-

Landholding Agency: Navy

Property Number: 77200330078

Status: Excess

Reason: Secured Area

Bldg. 506

Naval Weapons Station

Yorktown Co: VA 23691-

Landholding Agency: Navy

Property Number: 77200330079

Status: Excess

Reason: Secured Area

Bldgs. 656, 675, 685

Naval Weapons Station

Yorktown Co: VA 23691-

Landholding Agency: Navy

Property Number: 77200330080

Status: Excess

Reason: Secured Area

Bldg. 708

Naval Weapons Station

Yorktown Co: VA 23691-

Landholding Agency: Navy

Property Number: 77200330081

Status: Excess

Reason: Secured Area

Bldg. 720

Naval Weapons Station

Yorktown Co: VA 23691-

Landholding Agency: Navy

Property Number: 77200330082

Status: Excess

Reason: Secured Area

Bldg. 723

Naval Weapons Station

Yorktown Co: VA 23691-

Landholding Agency: Navy

Property Number: 77200330083

Status: Excess

Reason: Secured Area

Bldg. 724

Naval Weapons Station

Yorktown Co: VA 23691-

Landholding Agency: Navy

Property Number: 77200330084

Status: Excess

Reason: Secured Area

Bldg. 756

Naval Weapons Station

Yorktown Co: VA 23691-

Landholding Agency: Navy

Property Number: 77200330085

Status: Excess

Reason: Secured Area

Bldg. 773

Naval Weapons Station

Yorktown Co: VA 23691-

Landholding Agency: Navy

Property Number: 77200330086

Status: Excess

Reason: Secured Area

Bldg. 793

Naval Weapons Station

Yorktown Co: VA 23691-

Landholding Agency: Navy

Property Number: 77200330087

Status: Excess

Reason: Secured Area

Bldg. 807

Naval Weapons Station

Yorktown Co: VA 23691-

Landholding Agency: Navy

Property Number: 77200330088

Status: Excess

Reason: Secured Area

Bldg. 1247

Naval Weapons Station

Yorktown Co: VA 23691-

Landholding Agency: Navy

Property Number: 77200330089

Status: Excess

Reason: Secured Area

Bldg. 1509

Naval Weapons Station

Yorktown Co: VA 23691-

Landholding Agency: Navy

Property Number: 77200330090

Status: Excess

Reason: Secured Area

Bldg. 1759

Naval Weapons Station

Yorktown Co: VA 23691-

Landholding Agency: Navy

Property Number: 77200330091

Status: Excess

Reason: Secured Area

Bldg. 1828

Naval Weapons Station

Yorktown Co: VA 23691-

Landholding Agency: Navy

Property Number: 77200330092

Status: Excess

Reason: Secured Area

Bldg. 1839

Naval Weapons Station

Yorktown Co: VA 23691-

Landholding Agency: Navy

Property Number: 77200330093

Status: Excess

Reason: Secured Area

Bldg. 1890

Naval Weapons Station

Yorktown Co: VA 23691-

Landholding Agency: Navy

Property Number: 77200330094

Status: Excess

Reason: Secured Area

Bldgs. 1891, 1892, 1898

Naval Weapons Station

Yorktown Co: VA 23691-

Landholding Agency: Navy

Property Number: 77200330095

Status: Excess

Reason: Secured Area

Bldg. 2047

Naval Weapons Station

Yorktown Co: VA 23691-

Landholding Agency: Navy

Property Number: 77200330096

Status: Excess

Reason: Secured Area

[FR Doc. 03-24262 Filed 9-25-03; 8:45 am]

BILLING CODE 4210-29-M